DEPARTMENT OF HOMELAND SECURITY

Coast Guard

33 CFR Part 165

[Docket No. USCG-2022-0627]

Safety Zone; Oswego Harbor Fest Fireworks

AGENCY: Coast Guard, DHS.

ACTION: Notification of enforcement of regulation.

SUMMARY: The Coast Guard will enforce a safety zone for the Oswego Harbor Fest Fireworks. This safety zone is necessary for the safety of life on navigable waterways during this display. Our regulation for limited access areas within the Captain of the Port Buffalo Zone identifies the regulated area for this event in Oswego, NY. During the enforcement periods, the operator of any vessel in the regulated area must comply with directions from the Safety Zone Coordinator or any Official Patrol displaying a Coast Guard ensign.

DATES: The regulation listed in 33 CFR 165.939 Table 165.939 (b)(28) will be enforced from 9 p.m. through 10 p.m. on July 30, 2022.

FOR FURTHER INFORMATION CONTACT: If you have questions about this notification of enforcement, contact LTJG William Kelley, Chief of Waterways Management, Sector Buffalo, U.S. Coast Guard; telephone 716-843-9301, email D09-SMB-SECBuffalo-WWM@uscg.mil.

SUPPLEMENTARY INFORMATION: The Coast Guard will enforce the Oswego Harbor Fest Fireworks Safety Zone in 33 CFR 165.939 listed in the Table 165.939 (b)(28). The safety zone will be enforced on all waters of Oswego Harbor, Oswego, NY contained within a 700-foot radius of position 43°27′54.9″ N, 076°31′20.48″ W along with a 350-foot radius of the break wall between positions 43°27′86.0″ N, 076°31′44.3″ W then Northeast to 43°28′01.4″ N, 076°31′44.6″ W, from 9 p.m. through 10 p.m. on July 30, 2022.

Pursuant to 33 CFR 165.23, entry into, transiting, or anchoring within these safety zones during an enforcement period is prohibited unless authorized by the Captain of the Port (COTP) Buffalo or his designated representative; designation need not be in writing. Those seeking permission to enter these safety zones may request permission from the COTP Buffalo via channel 16, VHF-FM. Vessels and persons granted permission to enter the safety zone shall obey the directions of the COTP Buffalo or his designated representative. While within a safety zone, all vessels shall operate at the minimum speed necessary to maintain a safe course.

In addition to this notice of enforcement in the Federal Register, the Coast Guard will provide the maritime community with advance notification of the enforcement periods via Broadcast Notice to Mariners or other suitable means. If the COTP Buffalo determines that the safety zone need not be enforced for the full duration stated in this notice, he may use a Broadcast Notice to Mariners to grant general permission to enter the respective safety zone. This notice is issued under the authority of 5 U.S.C. 552(a).

Dated: July 25, 2022.
M.I. Kuperman,
Captain, U.S. Coast Guard, Captain of the Port Buffalo.

[FR Doc. 2022-16265 Filed 7-28-22; 8:45 am]

BILLING CODE 9110-04-P